DEPARTMENT OF THE INTERIOR

Fish and Wildlife Service

Notice of Receipt of Applications for Permit

Endangered Species

The following applicants have applied for a permit to conduct certain activities with endangered species. This notice is provided pursuant to Section 10(c) of the Endangered Species Act of 1973, as amended (16 U.S.C. 1531, et seq.):

Applicant: Clyde Bros/Johnson Circus Corp., Seagoville, TX, PRT-683118.

The applicant requests a permit to re-export and re-import captive-born tigers (Panthera tigris) and progeny of the animals currently held by the applicant and any animals acquired in the United States by the applicant to/from worldwide locations to enhance the survival of the species through conservation education. This notification covers activities conducted by the applicant over a three year period.

Applicant: Fort Worth Zoological Association, Fort Worth, TX, PRT-030194.

The applicant requests a permit to import 25 Lesser Long-nosed Bats (Leptonycteris curasoae) to be obtained from the wild in Mexico for the purpose of scientific research.

Applicant: Daniel E. Brewster, Broomfield, CO, PRT-030849.

The applicant requests a permit to import the sport-hunted trophy of one male bontebok (Damaliscus pygargus dorcas) culled from a captive herd maintained under the management program of the Republic of South Africa, for the purpose of enhancement of the survival of the species.

Applicant: Donald E. Thompson Troy, MO, PRT-031023.

The applicant requests a permit to import the sport-hunted trophy of one male bontebok (Damaliscus pygargus dorcas) culled from a captive herd maintained under the management program of the Republic of South Africa, for the purpose of enhancement of the survival of the species.

Applicant: Terry Humphrey, Troy, MO, PRT-031025.

The applicant requests a permit to import the sport-hunted trophy of one male bontebok (Damaliscus pygargus dorcas) culled from a captive herd maintained under the management program of the Republic of South Africa, for the purpose of enhancement of the survival of the species.

Applicant: Karl Douglas Nielson, Provo, UT, PRT-031156.

The applicant requests a permit to import the sport-hunted trophy of one male bontebok (Damaliscus pygargus dorcas) culled from a captive herd maintained under the management program of the Republic of South Africa, for the purpose of enhancement of the survival of the species.

Applicant: 777 Ranch, Inc., Hondo, TX, PRT-013008.

The applicant requests a permit to authorize interstate and foreign commerce, export and cull of excess male barasingha (Cervus duvauceli), Eld's deer (Cervus eldi), Arabian oryx (Oryx leucoryx) and red lechwe (Kobus leche) from their captive herd for the purpose of enhancement of survival of the species. This notice covers activities for a period of three years. Permittee must apply for renewal annually.

Applicant: Wildlife Conservation Society, Flushing, NY, PRT-030897.

The applicant requests a permit to authorize interstate commerce of captive born Thick-billed parrots (Rhynchopsitta pachyrhyncha pachyrhyncha) for the purpose of enhancement of survival of the species through captive breeding. This notice covers activities for a period of five years.

Marine Mammal

The public is invited to comment on the following application for a permit to conduct certain activities with marine mammals. The application was submitted to satisfy requirements of the Marine Mammal Protection Act of 1972, as amended (16 U.S.C. 1361 et seq.) and the regulations governing marine mammals (50 CFR 18).

Applicant: Ceferino Machado, Hialeah Garden, FL, PRT-024024.

The applicant requests a permit to import a polar bear (Ursus maritimus) sport-hunted from the Southern Beaufort Sea polar bear population, Northwest Territories, Canada for personal use.

Documents and other information submitted with these applications are available for review, subject to the requirements of the Privacy Act and Freedom of Information Act, by any party who submits a written request for a copy of such documents to the following office within 30 days of the date of publication of this notice: U.S. Fish and Wildlife Service, Office of Management Authority, 4401 North Fairfax Drive, Room 700, Arlington, Virginia 22203. Phone: (703/358-2104); FAX: (703/358-2281).

Dated: July 31, 2000.
Kristen Nelson,
Chief, Branch of Permits, Office of Management Authority.

[FR Doc. 00-19753 Filed 8-3-00; 8:45 am]

BILLING CODE 4310-55-U